DEPARTMENT OF THE INTERIOR

National Park Service

Notice of Availability of Final Environmental Impact Statement for the North Shore Road in Great Smoky Mountains National Park

SUMMARY: The National Park Service (NPS) in cooperation with the Federal Highway Administration (FHWA) announces the availability of the Final Environmental Impact Statement (FEIS) for the North Shore Road in the Great Smoky Mountains National Park, North Carolina. This document will be available for public review pursuant to Section 102(2)(C) of the National Environmental Policy Act of 1969 and NPS policy in Director's Order Number 12 (Conservation Planning, Environmental Impact Analysis, and Decision Making). The primary purpose of this FEIS is to finalize the documentation of the environmental analysis of the five alternatives studied in the document; to address substantive comments made on the Draft EIS; and to disclose the Agency's Preferred Alternative.

The purpose of the proposed action is to discharge and satisfy any obligations on the part of the United States that presently exist as the result of the July 30, 1943, Memorandum of Agreement (MOA) among the U.S. Department of the Interior (DOI), Tennessee Valley Authority (TVA), Swain County, North Carolina, and the State of North Carolina. The need for the project is to determine whether or not it is feasible to complete the road and to evaluate other alternatives that would satisfy the obligation.

The FEIS analyzed five alternatives for meeting the purpose and need of the project. The no-action alternative would continue current management practices and policies into the future. The monetary settlement (the preferred alternative) would provide Swain County, North Carolina, with a monetary settlement to satisfy and discharge the obligations of the MOA. Each of the other three action alternatives would allow various levels of development and/or road construction within the project study area of the Great Smoky Mountains National Park. Under the Laurel Branch Picnic Area alternative, a day-use area on the north side of existing Lake View Road would be constructed. Outdoor facilities would include a multi-use picnic shelter, picnic tables, several loop trails, drinking fountains, and restrooms. Under the Partial-Build Alternative to Bushnell, up to 8 miles (12.9 km) of new roadway from the existing tunnel west to the vicinity of the former Bushnell settlement would be constructed. This alternative would provide a boat-launching ramp and restricted boat dock. Located near the terminus of the new roadway would be a multi-use picnic shelter and picnic tables, a backcountry permit station, an information kiosk, restrooms, and a parking area. Exhibit/museum space would be designed to highlight local heritage of the area and could include concession opportunities. Under the Northern Shore Corridor Alternative, 29 to 34.3 miles of new roadway to the vicinity of Fontana Dam would be constructed. It would connect Lake View Road to NC Hwy. 28. This alternative would include provisions for the development of an auto-tour guide describing the historic and natural points of interest along the route. Also, restrooms would be built at appropriate locations.

The NPS Preferred Alternative is the Monetary Settlement Alternative. The Monetary Settlement would ensure that resources of Great Smoky Mountains National Park and the Appalachian National Scenic Trail would be unimpaired for the enjoyment of future generations. It would fulfill project goals and objectives including the protection of natural, cultural, and recreational resources.

DATES: The NPS will execute a Record of Decision (ROD) no sooner than 30 days following the publication of the Environmental Protection Agency's Notice of Availability in the Federal Register.

ADDRESSES: The complete FEIS is available for review or download on the internet at http://www.northshoreroad.info.

Copies of the FEIS will also be available for review at the following locations:

Pack Memorial Library, 67 Haywood Street, Asheville, North Carolina 28801;

Marianna Black Library, 33 Fryemont Road, Bryson City, North Carolina 28713;

Charlotte and Mecklenburg County Main Library, 310 North Tryon Street, Charlotte, North Carolina 28202;

Qualla Boundary Public Library, 810 Acquoni Road, Cherokee, NC 28719;

Anna Porter Public Library, 207 Cherokee Orchard Road, Gatlinburg, Tennessee 37738;

GSMNP Headquarters, 107 Park Headquarters Road, Gatlinburg, Tennessee 37738;

Lawson-McGee Library, 500 West Church Avenue, Knoxville, Tennessee 37915;

Cameron Village Regional Library, 410-200 Oberlin Road, Raleigh, North Carolina 27605;

Graham County Public Library, 80 Knight Street, Robbinsville, North Carolina 28771.

FOR FURTHER INFORMATION CONTACT: North Shore Road EIS, Attention: Superintendent, Great Smoky Mountains National Park, 107 Park Headquarters Road, Gatlinburg, Tennessee 37738, Telephone: 865/436-1207 or Fax: 865/436-1220.

SUPPLEMENTARY INFORMATION: In July 1943, the DOI, TVA, Swain County, North Carolina, and the State of North Carolina entered into a MOA that dealt with the creation of Fontana Dam and Reservoir and the flooding of lands and roads within Swain County. As part of that agreement, 44,170 acres of land were ultimately transferred to the DOI and made part of the Great Smoky Mountains National Park. The MOA also contained a provision by which the DOI was to construct a road through the Park, along the north shore of the newly formed Fontana Reservoir, to replace the flooded NC Hwy. 288, contingent upon funds being appropriated by Congress.

The FEIS evaluates potential environmental consequences of implementing the action alternatives on the Great Smoky Mountains and the Appalachian National Scenic Trail. Impact topics include the human environment, physical environment, natural and cultural resources, aesthetics and visual resources, visitor use and experience, and Park operations. Direct, indirect, and cumulative impacts along with options to address potential impacts were evaluated and are described for each resource area.

The FEIS is being mailed to appropriate Federal, State and local agencies and organizations which have been involved with the project, have expressed, or are known to have an interest or legal role in this proposal.

After public review of the FEIS, a ROD will be prepared. The ROD is scheduled for completion by the end of 2007.

The authority for publishing this notice is 42 U.S.C. 4332(2)(C).

The responsible official for this EIS is Art Frederick, Acting Regional Director, Southeast Region, National Park Service, 100 Alabama Street, SW., 1924 Building, Atlanta, Georgia 30303.

Dated: September 19, 2007.
Art Frederick,
Acting Regional Director, Southeast Region.

[FR Doc. E7-19429 Filed 10-1-07; 8:45 am]

BILLING CODE 4310-8A-P